DEPARTMENT OF LABOR

Employment and Training Administration

[TA-W-56,239]

Gasque Plumbing Company, Inc., Myrtle Beach, SC; Notice of Termination of Investigation

Pursuant to section 221 of the Trade Act of 1974, as amended, an investigation was initiated on December 22, 2004, in response to a petition filed on behalf of workers at Gasque Plumbing Company, Inc., Myrtle Beach, South Carolina. Workers at the subject firm install plumbing in commercial buildings.

The Department of Labor issued a negative determination applicable to the petitioning group of workers on December 20, 2004 (TA-W-56,096). Consequently, further investigation would serve no purpose, and the investigation has been terminated.

Signed at Washington, DC, this 5th day of January 2005.
Linda G. Poole,
Certifying Officer, Division of Trade Adjustment Assistance.

[FR Doc. E5-494 Filed 2-7-05; 8:45 am]

BILLING CODE 4510-30-P